DEPARTMENT OF COMMERCE

International Trade Administration

[A-533-863]

Certain Corrosion-Resistant Steel Products From India: Final Results of Antidumping Duty Administrative Review; 2016-2017

AGENCY: Enforcement and Compliance, International Trade Administration, Department of Commerce.

SUMMARY: The Department of Commerce (Commerce) determines that certain corrosion-resistant steel products (CORE) from India are being, or are likely to be sold, at less than normal value during the period of review (POR) January 4, 2016, through June 30, 2017.

DATES: Applicable December 14, 2018.

FOR FURTHER INFORMATION CONTACT: Rachel Greenberg or Kabir Archuletta, AD/CVD Operations, Office V, Enforcement and Compliance, International Trade Administration, U.S. Department of Commerce, 1401 Constitution Avenue NW, Washington, DC 20230; telephone: (202) 482-0652 or (202) 482-2593, respectively.

SUPPLEMENTARY INFORMATION:

Scope of the Order

The product covered by this review is CORE from India. For a full description of the scope, see the Issues and Decision Memorandum dated concurrently with and hereby adopted by this notice.¹

¹ See Memorandum, “Certain Corrosion-Resistant Steel Products from India: Issues and Decision Memorandum for the Final Results of the Antidumping Duty Administrative Review; 2016-2017,” dated concurrently with, and hereby adopted by, this notice (Issues and Decision Memorandum).

Analysis of Comments Received

All issues raised in the case and rebuttal briefs by parties to this administrative review are addressed in the Issues and Decision Memorandum.² A list of the issues that parties raised and to which we responded is attached to this notice as an Appendix. The Issues and Decision Memorandum is a public document and is on file electronically via Enforcement and Compliance's Antidumping and Countervailing Duty Centralized Electronic Service System (ACCESS). ACCESS is available to registered users at https://access.trade.gov and in the Central Records Unit, room B8024 of the main Department of Commerce building. In addition, a complete version of the Issues and Decision Memorandum can be accessed directly on the internet at http://enforcement.trade.gov/frn/index.html. The signed Issues and Decision Memorandum and the electronic versions of the Issues and Decision Memorandum are identical in content.

² Id.

Changes Since the Preliminary Results

Based on a review of the record and comments received from interested parties, we have recalculated JSW Steel Ltd. and JSW Coated Products Limited (collectively, JSW) weighted-average dumping margin to (1) use the correct program language for weight averaging the manufacturer-specific cost data; (2) use modified program language so as to not make an export subsidy adjustment to sales after the expiration of the provisional measures period in the companion countervailing duty investigation and before the publication of the ITC's final injury determination during the underlying investigation of this proceeding (i.e., March 5, 2016, through July 20, 2016); ³ and (3) use the most recently completed proceeding (i.e., the CORE CVD Investigation Final) as the source for the export subsidy adjustment to export price.⁴ For further discussion, see the Issues and Decision Memorandum.

³ See Countervailing Duty Investigation of Certain Corrosion-Resistant Steel Products from India: Final Affirmative Determination, 81 FR 35323, 35324 (June 2, 2016); see also Certain Corrosion-Resistant Steel Products from China, India, Italy, Korea, and Taiwan; Determinations, 81 FR 47177 (July 20, 2016).

⁴ See Countervailing Duty Investigation of Certain Corrosion-Resistant Steel Products from India: Final Affirmation Determination, 81 FR 35323 (June 2, 2016) (CORE CVD Investigation Final) and accompanying Issues and Decision Memorandum at 11.

Final Results of the Review

We determine that, for the period of January 4, 2016, through June 30, 2017, the following weighted-average dumping margin exists:

Exporter/producer | Weighted- average dumping margin (percent)
JSW Steel Ltd./JSW Coated Products Limited | 22.57

Duty Assessment

Commerce shall determine, and U.S. Customs and Border Protection (CBP) shall assess, antidumping duties on all appropriate entries covered by this review.

In accordance with Commerce's “automatic assessment” practice, for entries of subject merchandise during the POR produced by JSW for which it did not know that the merchandise was destined for the United States, we will instruct CBP to liquidate those entries at the all-others rate if there is no rate for the intermediate company(ies) involved in the transaction.

We intend to issue instructions to CBP 15 days after the publication date of the final results of this review.

Cash Deposit Requirements

The following cash deposit requirements will be effective upon publication of the notice of final results of administrative review for all shipments of the subject merchandise entered, or withdrawn from warehouse, for consumption on or after the publication date of the final results of this administrative review, as provided by section 751(a)(2)(C) of the Act: (1) The cash deposit rate for JSW will be the rate established in the final results of this administrative review; (2) for merchandise exported by producers or exporters not covered in this administrative review but covered in a prior segment of the proceeding, the cash deposit rate will continue to be the company-specific rate published for the most recently completed segment of this proceeding; (3) if the exporter is not a firm covered in this review, a prior review, or the original investigation, but the producer is, the cash deposit rate will be the rate established for the most recently completed segment of this proceeding for the producer of the subject merchandise; and (4) the cash deposit rate for all other manufacturers or exporters will continue to be 0.00 percent, the all-others rate established in the investigation.⁵ These cash deposit requirements, when imposed, shall remain in effect until further notice.

⁵ See Certain Corrosion-Resistant Steel Products from India, Italy, the People's Republic of Korea and Taiwan: Amended Final Affirmative Antidumping Determination for India and Taiwan, and Antidumping Duty Orders, 81 FR 48390, 48393 (July 25, 2016).

Notification to Importers

This notice also serves as a final reminder to importers of their responsibility under 19 CFR 351.402(f)(2) to file a certificate regarding the reimbursement of antidumping duties prior to liquidation of the relevant entries during this POR. Failure to comply with this requirement could result in the Secretary's presumption that reimbursement of antidumping and/or countervailing duties occurred and the subsequent assessment of doubled antidumping duties.

Administrative Protective Order

This notice also serves as a reminder to parties subject to administrative protective orders (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

We are issuing and publishing this notice in accordance with sections 751(a)(1) and 777(i)(1) of the Act and 19 CFR 351.213(h).

Dated: December 10, 2018.
Gary Taverman,
Deputy Assistant Secretary for Antidumping and Countervailing Duty Operations, performing the non-exclusive functions and duties of the Assistant Secretary for Enforcement and Compliance.

Appendix

List of Topics Discussed in the Final Decision Memorandum

I. Summary

II. List of Comments

III. Background

IV. Changes Since the Preliminary Results

V. Scope of the Order

VI. Discussion of Comments

Comment: Errors in Home Market SAS Programming Language

VII. Recommendation

[FR Doc. 2018-27122 Filed 12-13-18; 8:45 am]

BILLING CODE 3510-DS-P